DEPARTMENT OF HOMELAND SECURITY

Federal Emergency Management Agency

[Docket ID FEMA-2007-0008]

National Advisory Council; Meeting

AGENCY: Federal Emergency Management Agency, DHS.

ACTION: Committee Management; Notice of Federal Advisory Committee Meeting.

SUMMARY: The Federal Emergency Management Agency (FEMA) National Advisory Council (NAC) will meet in person on September 16, 17, and 18, 2015 in Washington, DC. The meeting will be open to the public.

DATES: The NAC will meet on Wednesday, September 16, 2015, from 9:30 a.m. to 2:30 p.m., on Thursday, September 17, 2015 from 8:30 a.m. to 5:30 p.m., and on Friday, September 18 from 8:30 a.m. to 1:00 p.m. Eastern Daylight Time (EDT). Please note that the meeting may close early if the NAC has completed its business.

ADDRESSES: The meeting will be held at the Kellogg Conference Center at Gallaudet University located at 800 Florida Avenue NE., in Washington, DC 20002-3695. All visitors to the Kellogg Conference Center are required to register with FEMA prior to the meeting in order to be admitted to the building. Please provide your name, telephone number, email address, title, and organization by close of business on September 14, 2015, to the person listed in FOR FURTHER INFORMATION CONTACT below.

For information on facilities or services for individuals with disabilities or to request special assistance at the meeting, contact the person listed in FOR FURTHER INFORMATION CONTACT below as soon as possible.

To facilitate public participation, members of the public are invited to provide written comments on the issues to be considered by the NAC (see “Agenda”). Written comments must be submitted and received by 5:00 p.m. EDT on September 11, 2015, identified by Docket ID FEMA-2007-0008, and submitted by one of the following methods:

• Federal eRulemaking Portal: http://www.regulations.gov. Follow the instructions for submitting comments.

• Email: FEMA-RULES@fema.dhs.gov. Include the docket number in the subject line of the message.

• Fax: (540) 504-2331.

• Mail: Regulatory Affairs Division, Office of Chief Counsel, FEMA, 500 C Street SW., Room 8NE, Washington, DC 20472-3100.

Instructions: All submissions received must include the words “Federal Emergency Management Agency” and the docket number for this action. Comments received will be posted without alteration at http://www.regulations.gov, including any personal information provided.

Docket: For access to the docket to read comments received by the NAC, go to http://www.regulations.gov, and search for the Docket ID listed above.

A public comment period will be held on Thursday, September 17 from 3:30 p.m. to 3:45 p.m. EDT. All speakers must limit their comments to 3 minutes. Comments should be addressed to the committee. Any comments not related to the agenda topics will not be considered by the NAC. Contact the individual listed below to register as a speaker by September 11, 2015. Please note that the public comment period may end before the time indicated, following the last call for comments.

FOR FURTHER INFORMATION CONTACT: Alexandra Woodruff, Alternate Designated Federal Officer, Office of the National Advisory Council, Federal Emergency Management Agency, 500 C Street SW., Washington, DC 20472-3184, telephone (202) 646-2700, fax (540) 504-2331, and email FEMA-NAC@fema.dhs.gov. The NAC Web site is: http://www.fema.gov/national-advisory-council.

SUPPLEMENTARY INFORMATION: Notice of this meeting is given under the Federal Advisory Committee Act, 5 U.S.C. Appendix.

The NAC advises the FEMA Administrator on all aspects of emergency management. The NAC incorporates state, local, and tribal government, and private sector input in the development and revision of FEMA plans and strategies. The NAC includes a substantive cross-section of officials, emergency managers, and emergency response providers from state, local, and tribal governments, the private sector, and nongovernmental organizations.

Agenda: On Wednesday, September 16, the NAC will be welcomed to Gallaudet University by the NAC Chair and Vice Chair. The NAC will also receive briefings from FEMA Executive Staff on the following topics:

• FEMA Office of Response and Recovery Updates

• FEMA National Preparedness Directorate Updates

• FEMA Flood Insurance and Mitigation Administration Updates

On Thursday, September 17, the NAC will hear remarks from the President of Gallaudet University and the Director of the District of Columbia Homeland Security and Emergency Management Agency. The NAC will engage in an open discussion with the FEMA Administrator. The three NAC subcommittees: Federal Insurance and Mitigation Subcommittee, Preparedness and Protection Subcommittee, and Response and Recovery Subcommittee, will then provide reports to the NAC about their work, whereupon the NAC will deliberate on any recommendations presented in the subcommittees' reports, and, if appropriate, vote on recommendations for FEMA's consideration. The subcommittee reports will be posted on the NAC Web page by 8:30 a.m. on Thursday, September 17. There will be a public comment period immediately following the close of subcommittee reports. The NAC will then hear remarks from the Director of FEMA's Office of Disability Integration and Coordination and engage in a facilitated discussion of the status of previously submitted NAC recommendations.

On Friday, September 18, the NAC will hear remarks from the NAC Chair and Vice Chair, engage in an open discussion with the FEMA Deputy Administrator, followed by an update from the FEMA National Tribal Affairs Advisor, an update on children's needs, and NAC member presentations.

The full agenda and any related documents for this meeting will be posted by Monday, September 14 on the NAC Web site at http://www.fema.gov/national-advisory-council.

Dated: August 26, 2015.
W. Craig Fugate,
Administrator, Federal Emergency Management Agency.

[FR Doc. 2015-21605 Filed 8-31-15; 8:45 am]

BILLING CODE 9111-48-P